DEPARTMENT OF TRANSPORTATION

Coast Guard

33 CFR Part 117

[CGD07-02-011]

Drawbridge Operation Regulations: Spanish River Boulevard (N.E. 40th Street) Drawbridge, Atlantic Intracoastal Waterway, Boca Raton, FL

AGENCY: Coast Guard, DOT.

ACTION: Notice of temporary deviation from regulations.

SUMMARY: The Commander, Seventh Coast Guard District, has approved a temporary deviation from the regulations governing the operation of the Spanish River Boulevard (N.E. 40th Street) Drawbridge across the Atlantic Intracoastal Waterway, mile 1045, Boca Raton, Florida. This deviation allows the bridge owner to only open a single leaf of the bridge from March 11, 2002 until March 25, 2002. Double leaf openings shall be provided with a twelve-hour advance notice to the contractor at (321) 229-3222. This temporary deviation is required to allow the bridge owner to safely complete repairs to the bridge decking.

DATES: This deviation is effective from 12:01 a.m. on March 11, 2002 until 11:30 p.m. on March 25, 2002.

ADDRESSES: Material received from the public, as well as documents indicated in this preamble as being available in the docket, will become part of this docket and will be available for inspection or copying at Commander (obr), Seventh Coast Guard District, 909 S.E. 1st Avenue, Miami, FL 33131 between 7:30 a.m. and 4 p.m., Monday through Friday, except Federal Holidays.

FOR FURTHER INFORMATION CONTACT: Mr. Barry Dragon, Chief, Operations Section, Seventh Coast Guard District, Bridge Section at (305) 415-6743.

SUPPLEMENTARY INFORMATION: The Spanish River Boulevard (N.E. 40th Street) Drawbridge across the Atlantic Intracoastal Waterway at Boca Raton, Florida, is a double leaf bridge with a vertical clearance of 21 feet above mean high water (MHW) measured at the fenders in the closed position with a horizontal clearance of 90 feet. The current operating regulation in 33 CFR 117.5 requires both draws of the bridge to open on signal.

On February 1, 2002, the drawbridge owner requested a deviation from the current operating regulations to allow the owner to complete repairs to the decking.

The District Commander has granted a temporary deviation from the operating requirements listed in 33 CFR 117.5 for the purpose of completing these repairs. Under this deviation, the Spanish River Boulevard (N.E. 40th Street) need only open a single leaf of the bridge from 12:01 a.m. on March 11, 2002 until 11:30 p.m. on March 25, 2002. Double leaf openings shall be provided with twelve hours advance notice to the contractor.

Dated: February 20, 2002.
Greg E. Shapley,
Chief, Bridge Administration, Seventh Coast Guard District.

[FR Doc. 02-4712 Filed 2-27-02; 8:45 am]

BILLING CODE 4910-15-U